DEPARTMENT OF JUSTICE

Notice of Lodging of Consent Decree Under the Clean Air Act

Notice is hereby given that on December 21, 2006, a proposed Consent Decree was lodged with the United States District Court for the District of Columbia in the case of United States v. DaimlerChrysler AG and Mercedes-Benz USA, LLC, Civil Action No. 1:06CV02172.

In this action, the United States filed a complaint alleging that DaimlerChrysler AG and Mercedes-Benz USA, LLC (``Defendants'') failed to timely file emission-defect information reports (``EDIRs'') with the U.S. Environmental Protection Agency, as required by 40 CFR 85.1903, with respect to the following emission-related defects in Mercedes-Benz vehicles: (1) Defects in mass the airflow sensor on certain 1998-2000 vehicles, (2) defects in the underfloor catalytic converter on 1998-2003 models with M112 and M113 engines, (3) defects in the fuel filler cap on certain 1998-2003 vehicles, (4) defects in the underhood catalysts on certain 1999-2001 M-class vehicles, (5) defects in the air pump of certain 2002-2006 vehicles, (6) defects in the fuel tank pressure sensor on certain 2001 vehicles, (7) defects in the ignition cable of certain 2001-2002 vehicles, and (8) defects in the ignition module of certain 2001 vehicles. The complaint seeks civil penalties and injunctive relief pursuant to the Clean Air Act, 42 U.S.C. 7401 et seq. (the ``Act'').

The proposed Consent Decree settles the United States' claims for injunctive relief and civil penalties under the Act with respect to the violations alleged in the complaint, as well as with respect to any failure of the Defendants to timely file EDIRs with respect to (1) defects in the underhood and underfloor catalytic converters on 2000 S-Class and C1-Class Mercedes-Benz vehicles and (2) defects in the inner funnel of the catalyst for certain 2004-2005 Mercedes-Benz vehicles. The proposed Consent Decree requires the Defendants to pay $1.2 million in civil penalties to the United States and to implement a Supplemental Emission-Related Defect Monitoring, Investigation, and Reporting Protocol.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Daimlerchrysler AG, D.J. Ref. 90-5-2-1-08769. A copy of the comments should also be sent to Donald Frankel, Trial Attorney, Environmental Enforcement Section, Department of Justice, Suite 616, One Gateway Center, Newton, MA 02458.

The Consent Decree may be examined at the Office of the United States Attorney, District of Columbia, Judiciary Center Building, 555 Fourth Street, NW., Washington, DC 20530. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $9 (25 cents per page reproduction cost) payable to the U.S. Treasury (if the request is by fax or e-mail, forward a check to the consent Decree library at the address stated above).

Karen Dworkin,
Assistant Chief, Environment Enforcement Section, Environment and Natural Resources Division.

[FR Doc. 06-9999 Filed 1-5-07; 8:45 am]

BILLING CODE 4410-15-M